FEDERAL COMMUNICATIONS COMMISSION

47 CFR Part 73

[DA 00-257; MM Docket No. 99-204; RM-9623]

Radio Broadcasting Services; Grand View, ID

AGENCY: Federal Communications Commission.

ACTION: Proposed rule; denial.

SUMMARY: This document denies a petition for rule making filed by Mountain West Broadcasting proposing the allotment of FM Channel 228A to Grand View, Idaho, as that locality's first local aural transmission service. See 64 FR 31175, June 10, 1999. Evidence presented established that the proposed reference coordinates at 42-53-47 NL and 116-50-30 WL to accommodate Channel 228A are located in a wilderness area managed by the Bureau of Land Management (“BLM”). The BLM stated that in the absence of environmental studies, the referenced site will not be designated as suitable for future use as an electronics site. The petitioner did not present any engineering showings to establish the availability of an alternate site. With this action, the proceeding is terminated.

ADDRESS: Federal Communications Commission, Washington, DC 20554.

FOR FURTHER INFORMATION CONTACT: Nancy Joyner, Mass Media Bureau, (202) 418-2180.

SUPPLEMENTARY INFORMATION: This is a synopsis of the Commission's Report and Order, MM Docket No. 99-204, adopted February 2, 2000, and released February 11, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, D.C. 20036, (202) 857-3800.

List of Subjects in 47 CFR Part 73

Radio broadcasting.

Federal Communications Commission.
John A. Karousos,
Chief, Allocations Branch, Policy and Rules Division, Mass Media Bureau.

[FR Doc. 00-4352 Filed 2-24-00; 8:45 am]

BILLING CODE 6712-01-P